DEPARTMENT OF HOMELAND SECURITY

Coast Guard

[Docket No. USCG-2015-0042]

Navigation Safety Advisory Council; Vacancies

AGENCY: Coast Guard, DHS.

ACTION: Request for applications.

SUMMARY: The Coast Guard seeks applications for membership on the Navigation Safety Advisory Council. The Navigation Safety Advisory Council provides advice and recommendations to the Secretary of Homeland Security, through the Commandant of the U.S. Coast Guard, on matters relating to maritime collisions, rammings, and groundings; Inland Rules of the Road; International Rules of the Road; navigation regulations and equipment; routing measures; marine information; diving safety; and aids to navigation systems.

DATES: Completed applications should reach the Coast Guard on or before June 30, 2015.

ADDRESSES: Applicants should send a cover letter expressing interest in an appointment to the Navigation Safety Advisory Council that also indentifies which membership category the applicant is applying under, along with the resume detailing the applicant's experience via one of the following methods:

• By mail: Commandant (CG-NAV)/NAVSAC Attn: Mr. George Detweiler, Alternate Designated Federal Officer, Commandant (CG-NAV), U.S. Coast Guard 2703 Martin Luther King Avenue SE., STOP 7418, Washington, DC 20593-7418;

• By fax to 202-372-1991; or

• By email to George.H.Detweiler@uscg.mil.

FOR FURTHER INFORMATION CONTACT: Mr. George Detweiler, the Navigation Safety Advisory Council Alternate Designated Federal Officer, telephone 202-372-1566, fax 202-372-1991, or email George.H.Detweiler@uscg.mil; or Mr. Burt Lahn, Navigation Safety Advisory Council coordinator, telephone 202-372-1526, or email Burt.A.Lahn@uscg.mil.

SUPPLEMENTARY INFORMATION: The Navigation Safety Advisory Council is a federal advisory committee authorized by 33 U.S.C. 2073 and chartered under the Federal Advisory Committee Act, (5 U.S.C. Appendix). The Navigation Safety Advisory Council provides advice and recommendations to the Secretary, through the Commandant of the U.S. Coast Guard, on matters relating to maritime collisions, rammings, and groundings; Inland Rules of the Road; International Rules of the Road; navigation regulations and equipment; routing measures; marine information; diving safety; and aids to navigation systems.

The Navigation Safety Advisory Council is expected to meet at least twice each year, or more often with the approval of the Designated Federal Officer. All members serve at their own expense and receive no salary from the Federal Government, although travel reimbursement and per diem may be provided for called meetings. The Navigation Safety Advisory Council is composed of not more than 21 members who all will have expertise in Inland and International vessel navigation Rules of the Road, aids to maritime navigation, maritime law, vessel safety, port safety, or commercial diving safety. Each member will be appointed to represent the viewpoints and interests of one of the following groups or organizations, and at least one member will be appointed to represent each membership category:

a. Commercial vessel owners or operators;

b. Professional mariners;

c. Recreational boaters;

d. The recreational boating industry;

e. State agencies responsible for vessel or port safety; and

f. The Maritime Law Association.

Members serve as representatives and are not Special Government Employees as defined in section 202(a) of Title 18, U.S.C.

The Coast Guard will consider applications for seven positions that expire or become vacant on November 4, 2015, in the following categories:

a. Professional mariners;

b. Recreational boaters;

c. Recreational Boating Industry; and

d. State agencies responsible for vessel or port safety;

To be eligible, you should have experience in one of the categories listed above. Members serve terms of office of up to three (3) years. Members may be reappointed to an additional term, serving not more than six consecutive years. In the event the Navigation Safety Advisory Council terminates, all appointments to the Council terminate.

The Department of Homeland Security does not discriminate in selection of Council members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Council, submit your cover letter and resume to Mr. George Detweiler, the Navigation Safety Advisory Council Alternate Designated Federal Officer by email or mail according to instructions in the ADDRESSES section by the deadline in the DATES section of this notice.

All email submittals will receive email receipt confirmation.

To visit our online docket, go to https://www.regulations.gov. Enter the docket number for this notice (USCG-2015-0042) in the Search box, and click “Search”. Please do not post your resume on this site.

G.C. Rasicot,
Director, Marine Transportation Systems, U.S. Coast Guard.

[FR Doc. 2015-10329 Filed 5-1-15; 8:45 am]

BILLING CODE 9110-04-P